PEACE CORPS

22 CFR Part 302

Organization

AGENCY: Peace Corps.

ACTION: Proposed rule.

SUMMARY: The Peace Corps is proposing to remove regulations which set out information regarding the Peace Corps' organization. The regulations are outdated and unnecessary. Information on the Peace Corps' organization is already published and updated annually in the United States Government Manual, a special Federal Register publication.

DATES: Comments must be received by January 21, 2004.

ADDRESSES: Comments should be submitted to Suzanne B. Glasow, Associate General Counsel, Office of the General Counsel, 8th Floor, 1111 20th Street, NW., Washington, DC 20526.

FOR FURTHER INFORMATION CONTACT: Tyler S. Posey, General Counsel, (202) 692-2150.

SUPPLEMENTARY INFORMATION: The Peace Corps is proposing to remove 22 CFR part 302 from the Code of Federal Regulations because it is outdated and unnecessary. Information on Peace Corps' organization is annually updated and published in the Federal Register's “United States Government Manual.” See FOIA Update, Summer 1992 (Office of Information and Privacy, Department of Justice).

Matters of Regulatory Procedure. Executive Order 12866. The Peace Corps has determined that this proposed rule does not constitute a “significant regulatory action” for the purposes of Executive Order 12866.

Regulatory Flexibility Act. Pursuant to section 605(b) of the Regulatory Flexibility Act, the Peace Corps certifies that this rule will not have a significant economic impact on a substantial number of small entities within the meaning of the Regulatory Flexibility Act (5 U.S.C. 601 et seq.). Accordingly, no regulatory flexibility analysis is required.

List of Subjects 22 CFR Part 302

Organization and functions; government agencies.

For the reasons set forth in the preamble and under the authority of 22 U.S.C. 2503(b), the Peace Corps proposes to amend title 22 of the CFR by removing part 302.

Dated: December 16, 2003.
Tyler S. Posey,
General Counsel.

[FR Doc. 03-31396 Filed 12-19-03; 8:45 am]

BILLING CODE 6015-01-M